DEPARTMENT OF HOMELAND SECURITY

Transportation Security Administration

All-Cargo International Security Procedures for Foreign Air Carriers

AGENCY: Transportation Security Administration (TSA), DHS.

ACTION: Notice of issuance.

SUMMARY: TSA is providing notice that we have issued All-Cargo International Security Procedures to all foreign air carriers that perform all-cargo operations to, from, within, or overflying the United States that are not otherwise regulated under title 49 of the Code of Federal Regulations part 1546, Foreign Air Carrier Security. TSA has issued these procedures to respond to vulnerabilities in air cargo security.

FOR FURTHER INFORMATION CONTACT: Robert Baker, TSA-7, Office of Aviation Operations, Transportation Security Administration HQ, 3rd Floor, East Building, 601 South 12th Street, Arlington, VA 22202-4220; telephone (571) 227-3506, facsimile (571) 227-1947, e-mail Robert.Baker2@dhs.gov.

SUPPLEMENTARY INFORMATION: On November 17, 2003, the Department of Homeland Security's Transportation Security Administration (TSA) issued All-Cargo International Security Procedures (ACISP) for foreign air carriers that perform all-cargo operations using aircraft with a maximum certificated takeoff weight of 12,500 pounds or more, to, from, within, or overflying the United States that are not otherwise regulated under title 49 of the Code of Federal Regulations (49 CFR) part 1546. TSA issued the ACISP pursuant to 49 CFR 1550.7, to respond to vulnerabilities in air cargo security.

The term “overflying” includes any flight departing from an airport or other location outside the United States, its territories or possessions, which transits the territorial airspace of the United States enroute to an airport or other location outside the United States, its territories, or possessions. The territorial airspace of the United States includes the airspace over the United States, its territories and possessions, and the airspace overlying the territorial waters between the U.S. coast and 12 nautical miles from the U.S. coast.

The U.S. Intelligence Community continues to receive and evaluate a high volume of reporting indicating possible threats against U.S. interests. This reporting, combined with recent terrorist attacks, has created an atmosphere of concern. While the ability to conduct multiple, near simultaneous attacks against several targets is not new for such terrorist groups as Al-Qaeda, the manner in which these attacks are being conducted indicates refined capabilities and sophisticated tactics. The Department of Homeland Security remains concerned about Al-Qaeda's continued interest in aviation, including using cargo jets to carry out attacks on critical infrastructure. In recognition of this threat, TSA has made a determination that these circumstances require immediate action to ensure safety in air transportation.

The ACISP includes requirements that the foreign air carrier must conduct random inspections of certain air cargo, verify the identities of persons with access to these flights, ensure the security of the aircraft, and have in place procedures to respond to certain threats. Affected foreign air carriers must implement the procedures set forth in the ACISP which is available by contacting Mr. Robert Baker at the Transportation Security Administration: telephone (571) 227-3506, facsimile (571) 227-1947, e-mail Robert.Baker2@dhs.gov. The ACISP is an interim measure to respond to the concerns set forth above.

Issued in Arlington, Virginia, January 20, 2004.
David M. Stone,
Acting Administrator.

[FR Doc. 04-1615 Filed 1-26-04; 8:45 am]

BILLING CODE 4910-62-P